NATIONAL AERONAUTICS AND SPACE ADMINISTRATION

[Notice: 05-085]

Notice of Information Collection Under OMB Review

AGENCY: National Aeronautics and Space Administration (NASA).

ACTION: Notice of information collection under OMB review.

SUMMARY: The National Aeronautics and Space Administration, as part of its continuing effort to reduce paperwork and respondent burden, invites the general public and other Federal agencies to take this opportunity to comment on proposed and/or continuing information collections, as required by the Paperwork Reduction Act of 1995 (Pub. L. 104-13, 44 U.S.C. 3506(c)(2)(A)).

DATES: All comments should be submitted within 30 calendar days from the date of this publication.

ADDRESSES: All comments should be addressed to Desk Officer for NASA; Office of Information and Regulatory Affairs; Office of Management and Budget; Room 10236; New Executive Office Building; Washington, DC 20503.

FOR FURTHER INFORMATION CONTACT: Requests for additional information or copies of the information collection instrument(s) and instructions should be directed to Ms. Kathleen Shaeffer, Acting NASA Reports Officer, NASA Headquarters, 300 E Street SW., Mail Suite 6M70, Washington, DC 20546, (202) 358-1230, kathleen.shaeffer-1@nasa.gov.

SUPPLEMENTARY INFORMATION:

I. Abstract

The National Aeronautics and Space Administration (NASA) is requesting renewal of an existing collection that is used to ensure proper accounting of Federal funds and property provided under cooperative agreements with commercial firms. Reporting and recordkeeping are prescribed 14 CFR Part 1274.

Absence of the information provided by agreement recipients by means of the following proposals, reports, and recordkeeping would result in NASA's inability to carry out its mission and to comply with statutory requirements (e.g., Chief Financial Officers Act, on the accountability of public funds and maintenance of an appropriate internal control system).

II. Method of Collection

NASA utilized paper and electronic methods to collect information from collection respondents.

III. Data

Title: Cooperative Agreements with Commercial Firms.

OMB Number: 2700-0092.

Type of Review: Extension of currently approved collection.

Affected Public: Business or other for-profit.

Estimated Number of Respondents: 58.

Estimated Time Per Response: Ranges from 20 minutes to 7 hours per response.

Estimated Total Annual Burden Hours: 3,488.

Estimated Total Annual Cost: 0.

IV. Request for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology.

Dated: April 26, 2005.
Patricia L. Dunnington,
Chief Information Officer.

[FR Doc. 05-8989 Filed 5-4-05; 8:45 am]

BILLING CODE 7510-13-P